DEPARTMENT OF ENERGY

Federal Energy Regulatory Commission

[Docket No. CP05-354-000]

Gulf South Pipeline Company, LP; Notice of Application

May 20, 2005.

Take notice that on May 13, 2005, Gulf South Pipeline Company, LP (Gulf South), 20 East Greenway, Houston, Texas 77046, filed in Docket No. CP05-354-000 an application pursuant to section 7(c) of the Natural Gas Act for a certificate of public convenience and necessity to modify the working, base and native gas storage levels at its Bistineau Gas Storage Facility located in Bienville and Bossier Parishes, Louisiana, in order to reflect the results of an Inventory Verification Study. Specifically, Gulf South proposes to reclassify 12.9 Bcf of base gas capacity as working gas capacity and offer that capacity to the marketplace as interruptible storage service; and reclassify 13.5 Bcf of native gas as base gas at its Bistineau facility.

This application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this application should be directed to J. Kyle Stephens, Director of Certificates, Gulf South Pipeline Company, LP, 20 East Greenway Plaza, Houston, Texas 77046, Phone: (713) 544-7309, Fax: (713) 544-3540, or Email: kyle.stephens@gulfsouthpl.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the Commission's final order.

The Commission strongly encourages electronic filings of comments, protests, and interventions via the internet in lieu of paper. See, 18 CFR 385.2001(a)(1)(iii) and the instructions on the Commission's Web site (http://www.ferc.gov) under the “e-Filing” link.

Comment Date: June 10, 2005.

Linda Mitry,
Deputy Secretary.

[FR Doc. E5-2659 Filed 5-25-05; 8:45 am]

BILLING CODE 6717-01-P